DEPARTMENT OF TRANSPORTATION

Federal Highway Administration

Notice of Final Federal Agency Actions on Proposed Highway in Wisconsin

AGENCY: Federal Highway Administration (FHWA), Department of Transportation (DOT).

ACTION: Notice of limitation on claims for judicial review of actions by FHWA and other Federal agencies.

SUMMARY: This notice announces actions taken by FHWA and other Federal agencies, on behalf of the Wisconsin Department of Transportation (WisDOT), that are final. The actions relate to a proposed highway project, Interstate 94 (I-94) East-West Corridor, 70th Street to 16th Street, in Milwaukee County, Wisconsin. Those actions grant licenses, permits, and approvals for the project.

DATES: By this notice, FHWA is advising the public of final agency actions subject to 23 U.S.C. 139(l)(1). A claim seeking judicial review of the Federal agency actions on the listed highway project will be barred unless the claim is filed on or before August 19, 2024. If the Federal law that authorizes judicial review of a claim provides a time period of less than 150 days for filing such claim, then that shorter time period still applies.

FOR FURTHER INFORMATION CONTACT: For FHWA: Ms. Bethaney Bacher-Gresock, Environmental Manager, FHWA Wisconsin Division, 525 Junction Road, Suite 8000, Madison, Wisconsin 53717; telephone: (608) 662-2119; email: bethaney.bacher-gresock@dot.gov.

For WisDOT: Mr. Christopher Zacharias, PE, Project Manager, WisDOT Southeast Region, 141 NW Barstow Street, Waukesha, Wisconsin 53187-0798; telephone: (262) 548-6716; email: christopher.zacharias@dot.wi.gov.

SUPPLEMENTARY INFORMATION: Notice is hereby given that FHWA has taken final agency actions related to the I-94 East-West Corridor Project in Milwaukee County, Wisconsin. FHWA, in cooperation with WisDOT, prepared a Supplemental Draft Environmental Impact Statement (EIS) and combined Supplemental Final EIS/Record of Decision (ROD) to reconstruct approximately 3.5 miles of I-94 from 70th Street to 16th Street in Milwaukee County, Wisconsin. The purpose of the I-94 East-West Corridor project is to address the deteriorated condition of I-94, obsolete roadway and bridge design, existing and future traffic demand, and high crash rates.

The project includes reconstructing and adding a through lane along I-94 in each direction along its existing alignment; reconstructing the 68th/70th Street interchange; reconstructing the Hawley Road interchange as a partial interchange; reconstruction of the Mitchell Boulevard interchange; reconstructing the existing system interchange at I-94/WIS 175/Brewers Boulevard (Stadium Interchange) as a diverging diamond service interchange; reconstructing the 35th Street and 27th Street interchanges; and local roadway improvements to offset impacts to local traffic from interchange modifications.

The actions taken by the Federal agencies on this project, and laws under which such actions were taken, are described in the combined Supplemental Final EIS/ROD, approved on March 8, 2024, and in other documents in the FHWA or WisDOT project records. The combined Supplemental Final EIS/ROD, and other project records are available by contacting FHWA or WisDOT at the addresses provided above. The combined Supplemental Final EIS/ROD can also be viewed on the project website at: https://wisconsindot.gov/Pages/projects/by-region/se/94stadiumint/default.aspx.

This notice applies to all Federal Agency decisions as of the issuance date of this notice and all laws under which such actions were taken, including but not limited to:

1. General: National Environmental Policy Act (NEPA) (42 U.S.C. 4321-4351); Federal-Aid Highway Act (FAHA) (23 U.S.C. 109 as amended by the Fast Act section 1404(a) [Pub. L. 114-94] and 23 U.S.C. 128).

2. Air: Clean Air Act (42 U.S.C. 7401-7671(q)) (Transportation Conformity, 40 CFR part 93).

3. Noise: Procedures for Abatement of Highway Traffic Noise and Construction Noise (23 U.S.C. 109(h), 109(i); 42 U.S.C. 4331, 4332; sec. 339(b), Pub. L. 104-59, 109 Stat. 568, 605; 23 CFR part 772).

4. Land: Section 4(f) of the Department of Transportation Act of 1966 (23 U.S.C. 138 and 49 U.S.C. 303; 23 CFR part 774) and section 6(f) of the Land and Water Conservation Act as amended (54 U.S.C. 200305(f)(3), Pub. L. 88-578; 36 CFR part 59).

5. Historic and Cultural Resources: Section 106 of the National Historic Preservation Act of 1966, as amended (54 U.S.C. 306108; 36 CFR part 800); Archeological and Historic Preservation Act of 1974 (54 U.S.C. 312501-312508); Native American Graves Protection and Repatriation Act (25 U.S.C. 3001 et seq.).

6. Wildlife: Endangered Species Act of 1973 (16 U.S.C. 1531-1544 and section 1536); Fish and Wildlife Coordination Act (16 U.S.C. 661-667(e)); Migratory Bird Treaty Act (16 U.S.C. 703-712).

7. Social and Economic: Americans with Disabilities Act (42 U.S.C. 12101); Uniform Relocation Assistance and Real Property Acquisition Act of 1970 (42 U.S.C. 4601 et seq., as amended by the Uniform Relocation Act Amendments of 1987 [Pub. L. 100-17]).

8. Wetlands and Water Resources: Clean Water Act (section 404, section 408, section 401, section 319) (33 U.S.C. 1251 et seq.); Safe Drinking Water Act (42 U.S.C. 300f et seq.).

9. Hazardous Materials: Comprehensive Environmental Response, Compensation, and Liability Act of 1980 (CERCLA) as amended (42 U.S.C. 9601 et seq.); Superfund Amendments and Reauthorization Act of 1986 (Pub. L. 99-499); Resource Conservation and Recovery Act (42 U.S.C. 6901 et seq.).

10. Executive Orders: E.O. 11990, Protection of Wetlands; E.O. 11988, Floodplain Management, as amended by E.O. 12148 and E.O. 13690; E.O. 12898, Federal Actions To Address Environmental Justice in Minority Populations and Low Income Populations; E.O. 14096, Revitalizing Our Nation's Commitment to Environmental Justice for All; E.O. 13175, Consultation and Coordination with Indian Tribal Governments; E.O. 11514, Protection and Enhancement of Environmental Quality; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Dated: March 8, 2024.
Glenn Fulkerson,
Division Administrator, Wisconsin Division, Federal Highway Administration.

[FR Doc. 2024-05773 Filed 3-21-24; 8:45 am]

BILLING CODE 4910-RY-P